SMALL BUSINESS ADMINISTRATION

[License No. 05/05-0335]

Serra Capital (SBIC) III, L.P.; Conflicts of Interest Exemption

Notice is hereby given that Serra Capital (SBIC) III, L.P., 2021 South First Street, Suite 206, Champaign, IL 61821, a Federal Licensee under the Small Business Investment Act of 1958, as amended (“the Act”), in connection with the financing of a small business concern, has sought an exemption under Section 312 of the Act and Section 107.730, Financings which Constitute Conflicts of Interest of the Small Business Administration (“SBA”) Rules and Regulations (13 CFR 107.730). Serra Capital (SBIC) III, L.P. is seeking a written exemption from SBA for a proposed financing to ConsortiEX, Inc., 1000 N Water Street, Suite 950, Milwaukee, WI 53202.

The financing is brought within the purview of § 107.730(a) of the Regulations because ConsortiEX, Inc. is an Associate of Serra Capital (SBIC) III, L.P. because Associate Serra Capital III, L.P. owns a greater than ten percent interest in ConsortiEX, Inc., therefore this transaction is considered Financing which constitute conflicts of interest requiring SBA's prior written exemption.

Notice is hereby given that any interested person may submit written comments on this transaction within fifteen days of the date of this publication to the Associate Administrator, Office of Investment and Innovation, U.S. Small Business Administration, 409 Third Street SW Washington, DC 20416.

United States Small Business Administration.
Thomas G. Morris,
Acting Associate Administrator, Director, Office of Liquidation, Office of Investment and Innovation.

[FR Doc. 2021-16266 Filed 7-29-21; 8:45 am]

BILLING CODE P